DEPARTMENT OF STATE

[Public Notice: 12675]

TITLE: Notice of a Public Meeting in Preparation for International Maritime Organization (IMO) Facilitation Committee (FAL 49) Meeting

The Department of State will conduct an in-person and virtual public meeting at 9:00 a.m. on Friday, March 7, 2025. The primary purpose of the meeting is to prepare for the forty-ninth session of the IMO'S Facilitation Committee (FAL 49) to be held in person at IMO Headquarters in London, United Kingdom from Monday, March 10, 2025, to Friday, March 14, 2025.

Members of the public may participate in-person or via Microsoft Teams. To RSVP, participants should contact the meeting coordinator, Mr. James Bull, by email at James.T.Bull@uscg.mil or via phone at (202) 731-1459. The meeting location will be the offices of ABSG Consulting at 80 M Street SE, Washington, DC 20003. Instructions for logging in to the meeting will be provided to those who RSVP.

The agenda items to be considered at this meeting include:

—Adoption of the agenda; report on credentials

—Decisions of other IMO bodies

—Consideration and adoption of amendments to the Convention

—Amendments to the FAL Convention to introduce mandatory reporting of the API and BRI/PNR for maritime transport

—Amendments to the FAL Convention to review the provisions of a key worker during a public health emergency of international concern

—Application of single window concept

—Review and revision of the IMO Compendium on Facilitation and Electronic Business, including additional e-business solutions

—Development of a comprehensive strategy on maritime digitalization

—Development of joint FAL-LEG-MEPC-MSC guidelines on electronic certificates

—Revisions of the Guidelines on maritime cyber risk management (MSC-FAL.1/Circ.3/Rev.2) and identification of next steps to enhance maritime cybersecurity

—Measures to address Maritime Autonomous Surface Ships (MASS) in the instruments under the purview of the Facilitation Committee

—Development of amendments to the revised guidelines for the prevention and suppression of the smuggling of drugs, psychotropic substances and precursor chemicals on ships engaged in international maritime traffic resolutions FAL.9(34) and MSC.228(82))

—Revision of the Guidelines on minimum training and education for mooring personnel (FAL.6/Circ.11/Rev.1)

—Unsafe mixed migration by sea

—Consideration and analysis of reports and information on persons rescued at sea and stowaways

—Technical cooperation activities related to facilitation of maritime traffic

—Relations with other organizations

—Application of the Committee's procedures on organization and method of work

—Work program

—Election of Chair and Vice-Chair for 2026

—Any other business

—Consideration of the report of the Committee on its forty-ninth session

Those who plan to participate may contact the meeting coordinator, Mr. James Bull, by email at James.T.Bull@uscg.mil, via phone at (202) 731-1459 or in writing at 2703 Martin Luther King Jr. Ave. SE, Stop 7501, Washington, DC 20593-7501. Members of the public needing reasonable accommodation should advise James Bull not later than February 21, 2025. Requests made after that date will be considered, but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-03044 Filed 2-24-25; 8:45 am]

BILLING CODE 4710-09-P